NEIGHBORHOOD REINVESTMENT CORPORATION

Sunshine Act Meetings; Audit Committee Meeting

TIME AND DATE: 3:00 p.m., Thursday, February 6, 2020.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552(b)(2) and (4) permit closure of the following portion(s) of this meeting:

• Internal Audit Report

AGENDA:

I. CALL TO ORDER

II. FY 2019 External Audit Presentation

III. Executive Session—CliftonLarsonAllen

IV. Resolution to Approve the FY2019 External Audit

V. FY2020 Risk Assessment & Internal Audit Plan

VI. Internal Audit Reports with Management's Response

VII. Internal Audit Status Reports

VIII. Adjournment

CONTACT PERSON FOR MORE INFORMATION: Rutledge Simmons, EVP & General Counsel/Secretary, (202) 760-4105; Rsimmons@nw.org.

Rutledge Simmons,
EVP & General Counsel/Corporate Secretary.

[FR Doc. 2020-01629 Filed 1-27-20; 11:15 am]

BILLING CODE 7570-02-P